DEPARTMENT OF COMMERCE

National Institute of Standards and Technology

Notice of Inventions Available for Licensing

AGENCY: National Institute of Standards and Technology, Commerce.

ACTION: Notice of inventions available for licensing.

SUMMARY: The inventions listed below are owned in whole or in part by the U.S. Government, as represented by the Secretary of Commerce. The U.S. Government's interest in these inventions is available for licensing in accordance with 35 U.S.C. 207 and 37 CFR part 404 to achieve expeditious commercialization of results of federally funded research and development.

FOR FURTHER INFORMATION CONTACT: Technical and licensing information on these inventions may be obtained by writing to: National Institute of Standards and Technology, Office of Technology Partnerships, Attn: Mary Clague, Building 222, Room A240, Gaithersburg, MD 20899. Information is also available via telephone: 301-975-4188, fax 301-975-3482, or e-mail: mary.clague@nist.gov. Any request for information should include the NIST Docket number and title for the invention as indicated below.

SUPPLEMENTARY INFORMATION: NIST may enter into a Cooperative Research and Development Agreement (“CRADA”) with the licensee to perform further research on the invention for purposes of commercialization. The inventions available for licensing are:

[NIST Docket Number: 06-003]

Title: Zeroeth Order Imaging.

Abstract: The invention provides a method of imaging critical dimensions by measuring the zeroeth order of diffracted light. The method involves providing a target, directing light onto the target so as to cause the target to diffract the light. The zeroeth order of the diffracted light is collected and analyzed to determine structural features of the target. The target can be an article of manufacture, such as a semiconductor device, or a separate target that is provided or fabricated on an article of manufacture. One of at least the wavelength and the angle at which the light is directed onto the target can be scanned. The target can fill all or only a portion of the field of view.

[NIST Docket Number: 08-013]

Title: The Microfluidic Palette: Generation of Multiple Chemical Gradients Within a Microfluidic Chamber.

Abstract: This invention is jointly owned with KT Consulting, Inc. The invention is a microfluidic device, capable of generating multiple spatial chemical gradients simultaneously inside a microfluidic chamber. The chemical gradients are generated by diffusion, without convection, and can either be maintained constant over long time periods, or modified dynamically. A representative device is described with a circular chamber in which diffusion occurs, with three access ports for the delivery and removal of solutes. A gradient typically forms in minutes, and can be maintained constant indefinitely. The device can also be used to evaluate chemotactic responses of bacteria or other microorganisms in the absence of convective flow.

[NIST Docket Number: 08-033]

Title: A New Technique for Combinational Circuit Optimization and a New Circuit for the S-box of AES.

Abstract: This invention is jointly owned with the University of Southern Denmark. The invention provides a new technique for combinational circuit optimization. The technique is a two-step process. In the first step, the non-linearity of the circuit—as measured by the number of nonlinear gates it contains—is reduced. The second step reduces the number of gates in the linear components of the circuit. The technique can be applied to arbitrary circuits, and seems to yield improvements even on circuits that have already been optimized by standard methods. The technique is applied to the S-box of the Advanced Encryption Standard (AES). The result is, as far as we know, the smallest circuit yet constructed for this function.

Dated: April 7, 2009.
Patrick Gallagher,
Deputy Director.

[FR Doc. E9-8873 Filed 4-16-09; 8:45 am]

BILLING CODE 3510-13-P